FEDERAL COMMUNICATIONS COMMISSION

[CS Docket No. 00-30; DA 00-1432]

En Banc Hearing on America Online, Inc and Time Warner, Inc. Applications for Transfer of Control

AGENCY: Federal Communications Commission.

ACTION: Notice of Hearing.

SUMMARY: The Federal Communications Commission (FCC) will hold an en banc hearing to discuss issues pertinent to the joint applications of America Online, Inc. (“AOL”) and Time Warner, Inc. (Time Warner) for Commission approval of the transfer of control to AOL Time Warner, a new entity, of licenses and authorizations now held by AOL and Time Warner. AOL and Time Warner, as well as consumer, community, and industry representatives will be invited to participate as panelists.

DATES: The hearing will be held on Thursday, July 27, 2000 from 1:00 p.m. to 5:00 p.m.

ADDRESSES: The hearing will be held at the Federal Communications Commission, Commission Meeting Room, 445 12th Street, S.W., Washington, D.C. 20554.

FOR FURTHER INFORMATION CONTACT: Linda Senecal, 202-418-7044. News Media Contact: Michelle Russo, 202-418-2358.

SUPPLEMENTARY INFORMATION: A transcript of the en banc will be available 10 days after the event on the FCC's Internet site. The URL address for the FCC's Internet Home Page is http://www.fcc.gov. Transcripts may be obtained from the FCC's duplicating contractor, International Transcription Service (ITS) at (202) 857-3800 or fax (202) 857-3805 or TTY (202) 293-8810. ITS may be reached by e-mail at: service@itsdocs.com. ITS's Internet address is http://www.itsdocs.com. The transcript is available to individuals with disabilities requiring accessible formats (electronic ASCII text, Braille, large print, and audiocassette) by contacting Brian Millin at (202) 418-7426 (Voice), (202) 418-7365 (TTY), or by sending an email to access@fcc.gov. The en banc can be viewed over George Mason University's Capitol Connection via the Internet by calling (703) 993-3100 for more information. The audio portion of the en banc will be broadcast live on the Internet via the Commission's Internet audio/video broadcast page at http://www.fcc.gov/realaudio. The en banc can also be heard via telephone, for a fee, from National Narrowcast Network, telephone (202) 966-2211 or fax (202) 966-1770. Users must have an account with National Narrowcast prior to the en banc. Audio and video tapes of the en banc may be purchased from Infocus, 341 Victory Drive, Herndon, Virginia 20170, by calling Infocus at (703) 834-0100 or by faxing Infocus at (703) 834-0111.

Dated: July 6, 2000.
John Norton,
Division Chief, Policy and Rules Division, Cable Services Bureau.

[FR Doc. 00-17667 Filed 7-12-00; 8:45 am]

BILLING CODE 6712-01-P